DEPARTMENT OF ENERGY

Federal Energy Regulatory Commission

[Docket No. EC04-180-000, et al.]

Tejas Energy NS, LLC, et al.; Electric Rate and Corporate Filings

May 18, 2004.

The following filings have been made with the Commission. The filings are listed in ascending order within each docket classification.

1. Tejas Energy NS, LLC, Tejas Coral Energy, LLC, Tenaska Gateway Partners, Ltd., Osaka Gas Gateway Power, LLC, and Osaka Rusk Gateway Power, LLC

[Docket No. EC04-108-000]

Take notice that on May 14, 2004, Tejas Energy NS, LLC, Tejas Coral Energy, LLC (together, the Tejas Parties), Tenaska Gateway Partners, Ltd. (Tenaska Gateway), Osaka Gas Gateway Power, LLC and Osaka Gas Rusk Power, LLC (together, the Osaka Parties) (collectively, Applicants) filed with the Federal Energy Regulatory Commission a joint application requesting authorization under section 203 of the Federal Power Act for the Tejas Parties to transfer all of their respective partnership interests in Tenaska Gateway, an 845 MW natural gas-fired combined cycle power plant located in Rusk County, Texas, to the Osaka Parties.

Applicants state that copies of the application were served upon the Public Utility Commission of Texas and Coral Power L.L.C.

Comment Date: June 4, 2004.

2. NM Colton Genco LLC, NM Mid-Valley Genco LLC, NM Milliken Genco LLC

[ Docket No. EC04-109-000]

Take notice that on May 14, 2004, NM Colton Genco LLC, NM Mid-Valley Genco LLC, and NM Milliken Genco LLC filed with the Commission an application pursuant to section 203 of the Federal Power Act for authorization for the change in control of jurisdictional facilities resulting from the upstream change in ownership of NM Colton Genco LLC, NM Mid-Valley Genco LLC and NM Milliken Genco LLC.

Comment Date: June 4, 2004.

3. Soyland Power Cooperative, Inc.

[Docket No. ER04-629-001]

Take notice that on May 14, 2004, Soyland Power Cooperative, Inc. (Soyland) tendered for filing revised rate sheets in compliance with the Commission's April 22, 2004, letter order in Docket No. ER04-629-000.

Comment Date: June 4, 2004.

4. Western Systems Power Pool, Inc.

[Docket No. ER04-777-000]

Take notice that on May 17, 2004, the Western Systems Power Pool, Inc. (WSPP) requested amendment of the WSPP Agreement to include Citigroup Energy, Inc. (CEI) and Direct Energy Marketing, Inc. (DEM) as participants. The WSPP seeks an effective date of January 26, 2004, for DEM's membership and February 18, 2004, for CEI's membership.

WSPP states that copies of this filing will be served upon Mark Sickafoose, Director of Global Commodities for CEI; Margaret Moore and Vincenzo Franco of Van Ness Feldman, P.C., counsel to CEI; and John Messenger, Power Trader for DEM. In addition, WSPP states that copies will be e-mailed to WSPP members who have supplied e-mail addresses for the Contract Committee and Contacts lists and that the filing has been posted on the WSPP home page (http://www.wsp.org).

Comment Date: June 4, 2004.

5. PPL Electric Utilities Corporation

[Docket No. ER04-843-000]

Take notice that on May 14, 2004, PPL Electric Utilities Corporation (PPL Electric) filed an Interchange Scheduling Agreement between PPL Electric and Waymart Wind Farm L.P. (Waymart) that sets forth the terms and conditions with respect to the scheduling of the output of the Waymart Wind Farm Generating Station. PPL Electric requests an effective date of January 1, 2004.

PPL Electric states that a copy of this filing has been provided to Waymart.

Comment Date: June 4, 2004.

6. Conservation Services Group

[Docket No. ER04-844-000]

Take notice that on May 14, 2004, Conservation Services Group (CSG) filed an Agreement for Supplemental Installed Capacity Southwest Connecticut (C&LM Resources) between ISO New England, Inc. and CSG pursuant to the Commission's order issued February 27, 2004, in Docket No. ER04-335-000, New England Power Pool, 106 FERC ¶ 61,190 (2004). CSG states that the Agreement was entered pursuant to ISO New England's issuance of a Gap Request for Proposal to provide load response and load management in southwestern Connecticut, and CSG shall provide such service beginning June 1, 2004.

Comment Date: June 4, 2004.

7. Western Electricity Coordinating Council

[Docket No. ER04-845-000]

Take notice that on May 14, 2004, the Western Electricity Coordinating Council (WECC) filed with the Commission (1) an amendment to the Reliability Criteria Agreement under the WECC's Reliability Management System adding Puget Sound Energy as a Participating Transmission Owner and (2) a Reliability Management System Agreement dated April 27, 2004, between WECC and Puget Sound Energy (collectively the Agreements). The WECC requests that the Commission issue an order by June 25, 2004, approving the Agreements with a July 1, 2004, effective date.

Comment Date: June 4, 2004.

8. EnerNOC, Inc.

[Docket No. ER04-846-000]

Please take notice that on May 14, 2004, EnerNOC, Inc. (EnerNOC) petitioned the Commission for an order: (1) Accepting for filing EnerNOC's Rate Schedule FERC No. 1; (2) accepting for filing Service Agreement No. 1 to EnerNOC's Rate Schedule FERC No. 1; (3) granting waiver of certain requirements of the Commission's regulations; and (4) granting the blanket approvals normally accorded to sellers permitted to sell at market-based rates. EnerNOC also requests that the Commission grant waiver of the 60-day prior notice requirement to allow an effective date of June 1, 2004.

Comment Date: June 4, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1217 Filed 5-25-04; 8:45 am]

BILLING CODE 6717-01-P